DEPARTMENT OF HOMELAND SECURITY

Federal Emergency Management Agency

[Docket ID FEMA-2024-0002; Internal Agency Docket No. FEMA-B-2479]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
California: Orange | City of San Juan Capistrano (24-09-0140P). | The Honorable Sergio Farias, Mayor, City of San Juan Capistrano, 30448 Rancho Viejo Road, Suite 110, San Juan Capistrano, CA 92675. | City Hall, 30448 Rancho Viejo Road, Suite 110, San Juan Capistrano, CA 92675. | https://msc.fema.gov/portal/advanceSearch. | Feb. 28, 2025 | 060231
Colorado:
Arapahoe | City of Aurora (23-08-0696P). | The Honorable Mike Coffman, Mayor, City of Aurora, 15151 East Alameda Parkway, Aurora, CO 80012. | Engineering Department, 15151 East Alameda Parkway, Aurora, CO 80012. | https://msc.fema.gov/portal/advanceSearch. | Feb. 28, 2025 | 080002
Arapahoe | City of Centennial (23-08-0696P). | The Honorable Stephanie Piko, Mayor, City of Centennial, 13133 East Arapahoe Road, Centennial, CO 80112. | Southeast Metro Stormwater Authority, 7437 South Fairplay Street, Centennial, CO 80112. | https://msc.fema.gov/portal/advanceSearch. | Feb. 28, 2025 | 080315
Arapahoe | Unincorporated Areas of Arapahoe County (23-08-0696P). | Carrie Warren-Gully, Chair, Arapahoe County Board of Commissioners, 5334 South Prince Street, Littleton, CO 80120. | Arapahoe County Public Works and Development Department, 6924 South Lima Street, Centennial, CO 80112. | https://msc.fema.gov/portal/advanceSearch. | Feb. 28, 2025 | 080011
El Paso | City of Colorado Springs (22-08-0717P). | The Honorable Yemi Mobolade, Mayor, City of Colorado Springs, 30 South Nevada Avenue, Colorado Springs, CO 80903. | Pikes Peak Regional Building Department, Floodplain Management Office, 2880 International Circle, Colorado Springs, CO 80910. | https://msc.fema.gov/portal/advanceSearch. | Feb. 6, 2025 | 080060
El Paso | Unincorporated Areas of El Paso County (22-08-0717P). | Cami Bremer, Chair, El Paso County, Board of Commissioners, 200 South Cascade Avenue, Suite 100, Colorado Springs, CO 80903. | Pikes Peak Regional Building Department, Floodplain Management Office, 2880 International Circle, Colorado Springs, CO 80910. | https://msc.fema.gov/portal/advanceSearch. | Feb. 6, 2025 | 080059
San Miguel | Town of Telluride (22-08-0762P). | The Honorable Teddy Errico, Mayor, Town of Telluride, P.O. Box 397, Telluride, CO 81435. | Town Hall, 113 West Columbia, Telluride, CO 81435. | https://msc.fema.gov/portal/advanceSearch. | Jan. 27, 2025 | 080168
San Miguel | Unincorporated Areas of San Miguel County (22-08-0762P). | Lance Waring, Chair, San Miguel County Board of Commissioners, P.O. Box 1170, Telluride, CO 81435. | San Miguel County Planning Department, 333 West Colorado, 3rd Floor, Telluride, CO 81435. | https://msc.fema.gov/portal/advanceSearch. | Jan. 27, 2025 | 080166
Florida:
Bay | Unincorporated Areas of Bay County (24-04-0085P). | Tommy Hamm, Chair, Bay County Board of Commissioners, 840 West 11th Street, Panama City, FL 32401. | Bay County Planning and Zoning Department, 840 West 11th Street, Panama City, FL 32401. | https://msc.fema.gov/portal/advanceSearch. | Mar. 10, 2025 | 120004
Charlotte | Unincorporated Areas of Charlotte County (24-04-5378P). | Bill Truex, Chair, Charlotte County Board of Commissioners, 18500 Murdock Circle, Suite 536, Port Charlotte, FL 33948. | Charlotte County Building Department, 18400 Murdock Circle, Port Charlotte, FL 33948. | https://msc.fema.gov/portal/advanceSearch. | Mar. 12, 2025 | 120061
Flagler | City of Bunnell (24-04-3318P). | The Honorable Catherine Robinson, Mayor, City of Bunnell, 604 East Moody Boulevard, Suite 4, Bunnell, FL 32110. | City Hall, 604 East Moody Boulevard, Unit 6, Bunnell, FL 32110. | https://msc.fema.gov/portal/advanceSearch. | Mar. 6, 2025 | 120086
Manatee | Unincorporated Areas of Manatee County (24-04-2859P). | Charlie Bishop, Manatee County Administrator, 1112 Manatee Avenue West, Bradenton, FL 34205. | Monroe County Building Department, 2798 Overseas Highway, Suite 300, Marathon, FL 33050. | https://msc.fema.gov/portal/advanceSearch. | Mar. 14, 2025 | 120153
Monroe | Unincorporated Areas of Monroe County (24-04-4022P). | The Honorable Holly Merrill Raschein, Mayor, Monroe County Board of Commissioners, 102050 Overseas Highway, Suite 234, Key Largo, FL 33037. | Monroe County Building Department, 2798 Overseas Highway, Suite 300, Marathon, FL 33050. | https://msc.fema.gov/portal/advanceSearch. | Mar. 17, 2025 | 125129
St. Johns | Unincorporated Areas of St. Johns County (24-04-3009P). | Sarah Arnold, Chair, St. Johns County Board of Commissioners, 500 San Sebastian View, St. Augustine, FL 32084. | St. Johns County Administration Building, 500 San Sebastian View, St. Augustine, FL 32084. | https://msc.fema.gov/portal/advanceSearch. | Mar. 12, 2025 | 125147
Sumter | City of Wildwood (24-04-6595X). | Jason F. McHugh, Manager, City of Wildwood, 100 North Main Street, Wildwood, FL 34785. | Sumter County Administration Building, 7375 Powell Road, Wildwood, FL 34785. | https://msc.fema.gov/portal/advanceSearch. | Mar. 14, 2025 | 120299
Sumter | Unincorporated Areas of Sumter County (24-04-6595X). | The Honorable Craig A. Estep, Chair, Sumter County Board of Commissioners, 7375 Powell Road, Wildwood, FL 34785. | Sumter County Administration Building, 7375 Powell Road, Wildwood, FL 34785. | https://msc.fema.gov/portal/advanceSearch. | Mar. 14, 2025 | 120296
Volusia | City of Orange City (24-04-5323P). | Dale Arrington, Manager, City of Orange City, 205 East Graves Avenue, Orange City, FL 32763. | Development Services Department, 205 East Graves Avenue, Orange City, FL 32763. | https://msc.fema.gov/portal/advanceSearch. | Mar. 14, 2025 | 120633
Nevada: Carson City | City of Carson City (24-09-0322P). | The Honorable Lori Bagwell, Mayor, City of Carson City, 201 North Carson Street, Carson City, NV 89701. | City Hall, 201 North Carson Street, Carson City, NV 89701. | https://msc.fema.gov/portal/advanceSearch. | Feb. 6, 2025 | 320001
North Carolina: Alamance | City of Mebane (24-04-2801P). | The Honorable Ed Hooks, Mayor, City of Mebane, 106 East Washington Street, Mebane, NC 27302. | Planning Department, 106 East Washington Street, Mebane, NC 27302. | https://msc.fema.gov/portal/advanceSearch. | Feb. 28, 2025 | 370390
Oklahoma:
Cleveland | City of Moore (24-06-0300P). | The Honorable Mark Hamm, Mayor, City of Moore , 301 North Broadway Avenue, Moore, OK 73160. | City Hall, 301 North Broadway Avenue, Moore, OK 73160. | https://msc.fema.gov/portal/advanceSearch. | Feb. 20, 2025 | 400044
Tulsa | City of Broken Arrow (24-06-1387P). | The Honorable Debra Wimpee, Mayor, City of Broken Arrow, 220 South 1st Street, Broken Arrow, OK 74012. | City Hall, 485 North Poplar Avenue, Broken Arrow, OK 74012. | https://msc.fema.gov/portal/advanceSearch. | Mar. 3, 2025 | 400236
Tulsa | City of Tulsa (24-06-1387P). | The Honorable G.T. Bynum, Mayor, City of Tulsa, 175 East 2nd Street, Suite 690, Tulsa, OK 74103. | City Hall, 175 East 2nd Street, Suite 690, Tulsa, OK 74103. | https://msc.fema.gov/portal/advanceSearch. | Mar. 3, 2025 | 405381
Pennsylvania:
Montour | Borough of Danville (24-03-0757P). | The Honorable Bernie Swank, Mayor, Borough of Danville, 218 Iron Street, Danville, PA 17821. | Borough Hall, 463 Mill Street, Danville, PA 17821. | https://msc.fema.gov/portal/advanceSearch. | Feb. 28, 2025 | 420714
Montour | Township of Mahoning (24-03-0757P). | Bill Lynn, Chair, Township of Mahoning Board of Supervisors, 849 Bloom Road, Danville, PA 17821. | Township Hall, 849 Bloom Road, Danville, PA 17821. | https://msc.fema.gov/portal/advanceSearch. | Feb. 28, 2025 | 421234
Texas:
Collin | City of McKinney (24-06-0596P). | The Honorable George Fuller, Mayor, City of McKinney, 222 North Tennessee Street, McKinney, TX 75069. | Engineering Department, 222 North Tennessee Street, McKinney, TX 75069. | https://msc.fema.gov/portal/advanceSearch. | Feb. 24, 2025 | 480135
Dallas | City of Grand Prairie (24-06-1016P). | The Honorable Ron Jensen, Mayor, City of Grand Prairie, P.O. Box 534045, Grand Prairie, TX 75053. | City Hall, 300 West Main Street, Grand Prairie, TX 75050. | https://msc.fema.gov/portal/advanceSearch. | Mar. 13, 2025 | 485472
Guadalupe | City of Cibolo (23-06-2228P). | The Honorable Mark Allen, Mayor, City of Cibolo, 200 South Main Street, Cibolo, TX 78108. | City Hall, 200 South Main Street, Cibolo, TX 78108. | https://msc.fema.gov/portal/advanceSearch. | Mar. 6, 2025 | 480267
Rockwall | City of Fate (24-06-1859P). | The Honorable David Billings, Mayor, City of Fate, 1900 C.D. Boren Parkway, Fate, TX 75087. | City Hall, 1900 C.D. Boren Parkway, Fate, TX 75087. | https://msc.fema.gov/portal/advanceSearch. | Mar. 14, 2025 | 480544
Travis | City of Manor (24-06-1494P). | The Honorable Christopher Harvey, Mayor, City of Manor, P.O. Box 387, Manor, TX 78653. | City Hall, 105 East Eggleston Street, Manor, TX 78653. | https://msc.fema.gov/portal/advanceSearch. | Mar. 17, 2025 | 481027
Travis | Unincorporated Areas of Travis County (24-06-1494P). | The Honorable Andy Brown, Travis County Judge, P.O. Box 1748, Austin, TX 78767. | Travis County Transportation and Natural Resources, 700 Lacava Street, 5th Floor, Austin, TX 78701. | https://msc.fema.gov/portal/advanceSearch. | Mar. 17, 2025 | 481026
Utah:
Salt Lake | City of Herriman City (24-08-0034P). | The Honorable Lorin Palmer, Mayor, City of Herriman City, 5355 West Main Street, Herriman, UT 84096. | City Hall, 5355 West Main Street, Herriman, UT 84096. | https://msc.fema.gov/portal/advanceSearch. | Mar. 3, 2025 | 490252
Salt Lake | Unincorporated Areas of Salt Lake County (24-08-0034P). | The Honorable Jenny Wilson, Mayor, Salt Lake County, 2001 South State Street Suite N2-100, Salt Lake City, UT 84114. | Salt Lake County Government Center, 2001 South State Street, Salt Lake City, UT 84114. | https://msc.fema.gov/portal/advanceSearch. | Mar. 3, 2025 | 490102
Wyoming: Teton | Unincorporated Areas of Teton County (23-08-0788P). | Luther Propst, Chair, Teton County Board of Commissioners, P.O. Box 3594, Jackson, WY 83001. | Teton County Engineering, 320 South King Street, Jackson, WY 83001. | https://msc.fema.gov/portal/advanceSearch. | Feb. 14, 2025 | 560094

[FR Doc. 2024-29409 Filed 12-12-24; 8:45 am]

BILLING CODE 9110-12-P